DEPARTMENT OF COMMERCE

National Oceanic and Atmospheric Administration

(NOAA) Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Wednesday, March 27, 2013 from 12:00 p.m. to 3:05 p.m. and Thursday, March 28, 2013 from 12:00 p.m. to 3:00 p.m. These times and the agenda topics described below are subject to change. Please refer to the Web page http://www.sab.noaa.gov/Meetings/meetings.html for the most up-to-date meeting agenda.

Place: Conference call. Public access TBD in Silver Spring, MD. Please check the SAB Web site http://www.sab.noaa.gov/Meetings/meetings.html for address and directions to the meeting location. Members of the public will not be able to dial in to this meeting.

Status: The meeting will be open to public participation with a 10 minute public comment period on March 28 from 12:05-12:15 p.m. (check Web site to confirm time). The SAB expects that public statements presented at its meetings will not be repetitive of previously submitted verbal or written statements. In general, each individual or group making a verbal presentation will be limited to a total time of two (2) minutes. Individuals or groups planning to make a verbal presentation should contact the SAB Executive Director by March 20, 2013 to schedule their presentation. Written comments should be received in the SAB Executive Director's Office by March 20, 2013 to provide sufficient time for SAB review. Written comments received by the SAB Executive Director after March 20, 2013 will be distributed to the SAB, but may not be reviewed prior to the meeting date. Seating at the meeting will be available on a first-come, first-served basis.

Special Accommodations: These meetings are physically accessible to people with disabilities. Requests for special accommodations may be directed no later than 12 p.m. on March 20, 2013, to Dr. Cynthia Decker, SAB Executive Director, SSMC3, Room 11230, 1315 East-West Hwy., Silver Spring, MD 20910.

Matters To Be Considered: The meeting will include the following topics: (1) Final Report from the SAB Research and Development Portfolio Review Task Force; (2) Review Report on the Cooperative Institute for Ocean Exploration, Research and Technology (CIOERT); (3) NOAA Response to the SAB Report on Assessing Data from non-NOAA Sources; (4) NOAA Response to the SAB White Paper; On the Need for a NOAA Environmental Data Management Framework; (5) Proposal for a RESTORE Act Working Group; (6) Membership for the Climate Working Group; and (7) Updates from SAB Working Groups.

FOR FURTHER INFORMATION CONTACT: Dr. Cynthia Decker, Executive Director, Science Advisory Board, NOAA, Rm. 11230, 1315 East-West Highway, Silver Spring, Maryland 20910. (Phone: 301-734-1156, Fax: 301-713-1459. Email: Cynthia.Decker@noaa.gov; or visit the NOAA SAB Web site at http://www.sab.noaa.gov.

Dated: March 8, 2013.
Jason Donaldson,
Chief Financial Officer/Chief Administrative Officer, Office of Oceanic and Atmospheric Research, National Oceanic and Atmospheric Administration.

[FR Doc. 2013-05899 Filed 3-13-13; 8:45 am]

BILLING CODE 3510-KD-P